DEPARTMENT OF TRANSPORTATION

Federal Aviation Administration

[Summary Notice No. PE-2002-23]

Petition for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Denise Emrick (202) 267-5174, Office of Rulemaking (ARM-1), Federal Aviation Administration, 800 Independence Avenue, SW., Washington, DC 20591.

This notice is published pursuant to 14 CFR 11.85 and 11.91.

Issued in Washington, DC, on March 25, 2002.
Gary A. Michel,
Acting Assistant Chief Counsel for Regulations.

Disposition of Petitions

Docket No.: FAA-2001-10800.

Petitioner: Sierra Industries, Inc.

Section of 14 CFR Affected: 14 CFR 91.9(a) and 91.531(a)(1) and (2).

Description of Relief Sought/Disposition: To permit certain qualified pilots of its Cessna Citation Model 500 series airplanes, equipped with certain supplemental type certificates, to operate those aircraft without a pilot who is designated as second in command. Grant, 3/11/2002, Exemption No. 5517F (Previously Docket No. 26734)

Docket No.: FAA-2002-11564.

Petitioner: Cedar Rapids Police Department, Air Support Division.

Section of 14 CFR Affected: 14 CFR 91.209(a) and (b).

Description of Relief Sought/Disposition: To permit the Cedar Rapids Police Department to conduct air operations without lighted position and anticollision lights required by § 91.209. Grant, 3/11/2002, Exemption No. 6780B (Previously Docket No. 27821)

Docket No.: FAA-2002-11402.

Petitioner: Experimental Aircraft Association.

Section of 14 CFR Affected: 14 CFR 61.58(a)(2) and 91.5.

Description of Relief Sought/Disposition: To permit Experimental Aircraft Association members to complete an approved training course in lieu of a pilot proficiency check. Grant, 3/11/2002, Exemption No. 4941G (Previously Docket No. 25242)

Docket No.: FAA-2002-11498.

Petitioner: Air Tractor, Inc.

Section of 14 CFR Affected: 14 CFR 61.31(a)(1).

Description of Relief Sought/Disposition: To permit Air Tractor and pilots of Air Tractor AT-802 and AT-802A airplanes to operate those airplanes without holding a type rating, although the maximum gross weight of the airplane exceeds 12,500 pounds. Grant, 3/11/2002, Exemption No. 5651G (Previously Docket No. 27122)

Docket No.: FAA-2002-11568.

Petitioner: Broward County Public Works Department, Mosquito Control Section.

Section of 14 CFR Affected: 14 CFR 137.53(c)(2).

Description of Relief Sought/Disposition: To permit Broward County Public Works Department, Mosquito Control Section to conduct aerial applications of insecticide materials from a Beechcraft C-45H aircraft without the aircraft being equipped with a device that is capable of jettisoning at least one-half of the aircraft's maximum authorized load of agricultural materials within 45 seconds when operating over a congested area. Grant, 3/11/2002, Exemption No. 6470C (Previously Docket No. 28422)

Docket No.: FAA-2002-11284.

Petitioner: Tulsa Air & Space Center Airshows, Inc.

Section of 14 CFR Affected: 14 CFR 91.315, 119.5(g), and 119.21(a).

Description of Relief Sought/Disposition: To permit Tulsa Air & Space to operate its North American B-25 aircraft for the purpose of carrying passengers for compensation or hire on local flights for educational and historical purposes. Grant, 3/12/2002, Exemption No. 7126B)

[FR Doc. 02-7486 Filed 3-27-02; 8:45 am]

BILLING CODE 4910-13-M